DEPARTMENT OF THE INTERIOR

Bureau of Reclamation

Central Valley Project Improvement Act, Criteria for Developing Refuge Water Management Plans

AGENCY: Bureau of Reclamation, Interior.

ACTION: Notice of availability.

SUMMARY: The “Criteria for Developing Refuge Water Management Plans” (Refuge Criteria) are now available for public comment. The Refuge Criteria provide a common methodology, or standard, for efficient use of water by Federal Wildlife Refuges, State Wildlife Management Areas and Resource Conservation Districts that receive water under provisions of the Central Valley Project Improvement Act (CVPIA). They document the process and format by which Refuge Water Management Plans (Plans) should be prepared and submitted to Reclamation as part of the Refuge/District Water Supply Contracts and Memoranda of Agreement. The Refuge Criteria refer to Refuges, Wildlife Areas, and Resource Conservation Districts as Refuges. Those Refuges that entered into water supply contracts with Reclamation as a result of the CVPIA and subsequent Department of the Interior administrative review processes are required to prepare Plans using the Refuge Criteria.

DATES: Submit written comments by December 15, 2010.

ADDRESSES: Please mail comments to Ms. Christy Ritenour, Bureau of Reclamation, 2800 Cottage Way, MP-410, Sacramento, California, 95825, 916-978-5281, or e-mail at critenour@usbr.gov.

FOR FURTHER INFORMATION CONTACT: To be placed on a mailing list for any subsequent information or to obtain a copy of any water management plans, please contact Ms. Ritenour at the e-mail address or telephone number above.

SUPPLEMENTARY INFORMATION: In response to the Central Valley Project Improvement Act of 1992 and a 1995 Department of the Interior administrative review process, the Interagency Coordinated Program for Wetland and Water Use Planning (ICP) was formed. The ICP was comprised of representatives from the Bureau of Reclamation, the U.S. Fish and Wildlife Service, the California Department of Fish and Game, and the Grassland Resource Conservation District. The ICP developed the 1998 Task Force Report, which outlines past, present, and future wetland planning and management issues and a methodology for Refuge Criteria. To continue the work of the now disbanded ICP, an Interagency Refuge Water Management Team (IRWMT) was formed composed of the same agencies to continue working on wetland issues such as water delivery, including additional work on wetland Refuge Criteria. The IRWMT used the 1998 Task Force Report and Reclamation's 1999 Conservation and Efficiency Criteria as the foundation for developing the water management planning requirements or criteria included in these Refuge Criteria. The Refuge Criteria also incorporated comments, ideas, and suggestions from Refuge/District managers, biologists, water conservation specialists, engineers, the CALFED Bay-Delta Program, and other Central Valley stakeholders. The Refuge Criteria were last updated in 2004 and the proposed 2010 update is currently under review. The Refuge Criteria apply to the following areas: Kern National Wildlife Refuge, Merced National Wildlife Refuge, Pixley National Wildlife Refuge, San Luis National Wildlife Refuge, Los Banos State Wildlife Area, Mendota State Wildlife Area, North Grassland State Wildlife Area, Volta State Wildlife Area, Grassland Resource Conservation District, Colusa National Wildlife Refuge, Delevan National Wildlife Refuge, Sacramento National Wildlife Refuge, Sutter National Wildlife Refuge, and Gray Lodge State Wildlife Area.

Public Disclosure: Before including your name, address, phone number, e-mail address, or other personal identifying information in your comment, you should be aware that your entire comment—including your personal identifying information—may be made publicly available at any time. While you can ask us in your comment to withhold your personal identifying information from public review, we cannot guarantee that we will be able to do so.

Dated: October 12, 2010.
Richard J. Woodley,
Regional Resources Manager, Mid-Pacific Region.

[FR Doc. 2010-28603 Filed 11-12-10; 8:45 am]

BILLING CODE 4310-MN-P